DEPARTMENT OF TRANSPORTATION

Federal Aviation Administration

14 CFR Part 73

[Docket No. FAA-2013-0515; Airspace Docket No. 13-AWP-8]

RIN 2120-AA66

Amendment of Restricted Areas R-2504A & R-2504B; Camp Roberts, CA, and Restricted Area R-2530; Sierra Army Depot, CA

AGENCY: Federal Aviation Administration (FAA), DOT.

ACTION: Final rule.

SUMMARY: This action amends the descriptions of restricted areas R-2504A and R-2504B, Camp Roberts, CA, and restricted area R-2530, Sierra Army Depot, CA, by removing the abbreviation “PST” from the time of designation. This amendment does not change the dimensions of, or activities conducted within, R-2504A, R-2504B, and R-2530.

DATES: Effective Date: 0901 UTC, October 17, 2013.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

Background

The time of designation for R-2504A and R-2504B currently reads “0600 to 2400 PST, daily” and the time of designation for R-2530 currently reads “0800 to 1800 PST, Monday-Friday; other times by NOTAM.” Since the restricted areas lie completely within the pacific time zone, it is unnecessary to specify “PST” in the descriptions. The use of “PST” has led to confusion about the time of designation during that part of the year when daylight saving time is in effect. The intended time of designation for restricted areas R-2504A and R-2504B is 0600-2400 local time, daily, during both standard time and daylight saving time periods and for R-2530 is 0800-1800 local time, Monday-Friday; other times by NOTAM, during both standard time and daylight saving time periods.

The Rule

This action amends Title 14, Code of Federal Regulations (14 CFR) part 73 by removing “PST” from the time of designation for restricted areas R-2504A and R-2504B, Camp Roberts, CA, and R-2530, Sierra Army Depot, CA, and inserting the words “local time” in its place. The time of designation is amended to read “0600 to 2400 local time, daily” for R-2504A and R-2504B and “0800-1800 local time, Monday-Friday; other times by NOTAM” for R-2530. These changes do not alter the current dimensions or usage of the restricted areas.

Because this action is a minor editorial change that does not alter the physical location or utilization of the restricted areas, I find that notice and public procedures under 5 U.S.C. 553(b) are unnecessary.

Section 73.25 of Title 14 CFR part 73 was republished in FAA Order JO 7400.8V, effective February 16, 2013.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends airspace descriptions to keep them current.

Environmental Review

The FAA has determined that this action qualifies for categorical exclusion under the National Environmental Policy Act in accordance with FAA Order 1050.1E, Environmental Impacts: Policies and Procedures, paragraph 311d. This action updates the technical description of special use airspace that does not alter the dimensions, altitudes, or use of the airspace. It is not expected to cause any potentially significant environmental impacts, and no extraordinary circumstances exist that warrant preparation of an environmental assessment.

List of Subjects in 14 CFR Part 73

Airspace, Prohibited areas, Restricted areas.

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2504A Camp Roberts, CA [Amended]

By replacing the current time of designation as follows:

Time of designation. 0600 to 2400 local time, daily.

* * * * *

R-2504B Camp Roberts, CA [Amended]

By replacing the current time of designation as follows:

Time of designation. 0600 to 2400 local time, daily.

* * * * *

R-2530 Sierra Army Depot, CA [Amended]

By replacing the current time of designation as follows:

Time of designation. 0800 to 1800 local time, Monday-Friday; other times by NOTAM.

Issued in Washington, DC on July 1, 2013.
Gary A. Norek,
Manager, Airspace Policy and ATC Procedures Group.

[FR Doc. 2013-16449 Filed 7-8-13; 8:45 am]

BILLING CODE 4910-13-P